DEPARTMENT OF LABOR

Bureau of Labor Statistics

Business Research Advisory Council; Notice of Meeting and Agenda

The regular Fall meetings of the Business Research Advisory Council and its committees will be held on October 24 and 25, 2001. All of the meetings will be held in the Conference Center of the Postal Square Building, 2 Massachusetts Avenue, N.E., Washington, D.C.

The Business Research Advisory Council and its committees advise the Bureau of Labor Statistics with respect to technical matters associated with the Bureau's Programs. Membership consists of technical officials from American business and industry.

The Schedule and agenda for the meeting are as follows:

Wednesday—October 24, 2001—Meeting Rooms 7 & 8

10:00-11:30 a.m.—Committee on Employment and Unemployment Statistics

1. American Time Use Survey (ATUS) update.

2. Current Employment Statistics (CES) update.

a. North American Industry Classification System (NAICS) conversion.

b. Options for collecting hours and earnings for all employees.

c. Discussion of whether to move the earnings concept toward total earnings for the month.

3. Large scale layoffs, employment dynamics, and firm survival: report on BLS research using data from the Mass Layoff Statistics (MLS) program.

4. Discussion of agenda items for the Spring 2002 meeting.

1:00-2:30 p.m.—Committee on Price Indexes

1. Consumer Price Index.

2. Producer Price Index.

3. Import and Export Price Indexes.

4. Discussion of agenda items for the Spring 2002 meeting.

3:00-4:30 p.m.—Committee on Employment Projections

1. Reorganization of the Employment Projections program.

2. Status of the 2000-2010 Projections program.

3. North American Industry Classification System (NAICS) issues.

4. Project plans for Fiscal Year 2002.

5. Discussion of agenda items for the Spring 2002 meeting.

Thursday—October 25, 2001—Meeting Rooms 7 & 8

8:30-10:00 a.m.—Committee on Productivity and Foreign Labor Statistics

1. Capital measurement project for residential housing.

2. Service sector expansion plans.

3. Country expansion possibilities for comparative hourly compensation data.

4. Discussion of agenda items for the Spring 2002 meeting.

8:30-10:00 a.m.—Committee on Occupational Safety and Health Statistics (Concurrent Session, Meeting Room 9)

1. Report on the 2000 Census of Fatal Occupational Injuries (CFOI).

2. Status of the 2001 Census of Fatal Occupational Injuries.

8:30-10:00 a.m.—Committee on Occupational Safety and Health Statistics (Concurrent Session, Meeting Room 9) (Continued)

3. Demonstration of the CFOI profiles system.

4. Status report on the Survey of Respirator Use and Practices.

5. Changes to the Survey of Occupational Injuries and Illness in response to the OSHA recordkeeping changes.

6. FY2002 Budget.

7. Discussion of agenda items for the Spring 2002 meeting.

10:30 a.m.-12:00 p.m.—Council

1:30-3:00 p.m.—Committee on Compensation and Working Conditions

1. Wage query system with regressions.

2. Equity-based compensation.

3. Discussion of agenda items for Spring 2002 meeting.

The meetings are open to the public. Persons with disabilities wishing to attend these meeting as observers should contact Tracy A. Jack, Liaison, Business Research Advisory Council, at (202) 691-5869, for appropriate accommodations.

Signed at Washington, D.C. the 3rd day of October 1, 2001.
Katharine G. Abraham,
Commissioner.

[FR Doc. 01-25387 Filed 10-9-01; 8:45 am]

BILLING CODE 4510-24-M